DEPARTMENT OF ENERGY

Federal Energy Regulatory Commission

Combined Notice of Filings #1

Take notice that the Commission received the following electric rate filings:

Docket Numbers: ER10-1355-006.

Applicants: Southern California Edison Company.

Description: Triennial Market Power Analysis for the CAISO BAA Market of Southern California Edison Company.

Filed Date: 12/19/18.

Accession Number: 20181219-5260.

Comments Due: 5 p.m. ET 2/20/19.

Docket Numbers: ER10-1790-017; ER10-2595-004; ER10-276-005; ER12-1400-005.

Applicants: BP Energy Company, Flat Ridge Wind Energy, LLC, Flat Ridge 2 Wind Energy LLC, Rolling Thunder I Power Partners, LLC.

Description: Updated Market Power Analysis for Southwest Power Pool Region of BP Energy Company, et. al.

Filed Date: 12/19/18.

Accession Number: 20181219-5264.

Comments Due: 5 p.m. ET 2/20/19.

Docket Numbers: ER10-2434-008; ER10-2436-008; ER10-2467 008; ER17-1666-005.

Applicants: Fenton Power Partners I, LLC, Hoosier Wind Project, LLC, Red Pine Wind Project, LLC, Wapsipinicon Wind Project LLC.

Description: Notice of Change in Status of the EDFR MISO Sellers.

Filed Date: 12/19/18.

Accession Number: 20181219-5265.

Comments Due: 5 p.m. ET 1/9/19.

Docket Numbers: ER10-3125-013; ER10-3102-013; ER15-1447-005; ER10-3100-013; ER10-3107-013.

Applicants: AL Sandersville, LLC, Effingham County Power, LLC, Mid-Georgia Cogen L.P., MPC Generating, LLC, Walton County Power, LLC.

Description: Notice of Non-Material Change in Status of AL Sandersville, LLC, et al.

Filed Date: 12/19/18.

Accession Number: 20181219-5208.

Comments Due: 5 p.m. ET 1/9/19.

Docket Numbers: ER11-2105-002.

Applicants: Oklahoma Gas and Electric Company.

Description: Supplement to June 20, 2018 Updated Market Power Analysis for Southwest Power Pool, Inc. Balancing Area Authority of Oklahoma Gas and Electric Company.

Filed Date: 12/19/18.

Accession Number: 20181219-5270.

Comments Due: 5 p.m. ET 1/9/19.

Docket Numbers: ER18-1169-005.

Applicants: California Independent System Operator Corporation.

Description: Compliance filing: 2018-12-19 Commitment Cost Enhancements Phase 3 Gas Price Indices Compliance to be effective 4/1/2019.

Filed Date: 12/19/18.

Accession Number: 20181219-5132.

Comments Due: 5 p.m. ET 1/9/19.

Docket Numbers: ER18-1169-006.

Applicants: California Independent System Operator Corporation.

Description: Compliance filing: 2018-12-19 Commitment Cost Enhancements Phase 3 Omitted Record Compliance to be effective 4/1/2019.

Filed Date: 12/19/18.

Accession Number: 20181219-5135.

Comments Due: 5 p.m. ET 1/9/19.

Docket Numbers: ER19-90-001.

Applicants: Clean Energy Future—Lordstown, LLC.

Description: Compliance filing: Informational Filing Pursuant to Schedule 2 of the PJM OATT & Request for Waiver to be effective N/A.

Filed Date: 12/19/18.

Accession Number: 20181219-5190.

Comments Due: 5 p.m. ET 1/9/19.

Docket Numbers: ER19-357-000.

Applicants: KCE NY 1, LLC.

Description: Supplement to November 16, 2018 KCE NY 1, LLC tariff filing.

Filed Date: 12/20/18.

Accession Number: 20181220-5115.

Comments Due: 5 p.m. ET 1/10/19.

Docket Numbers: ER19-610-000.

Applicants: Marengo Battery Storage, LLC.

Description: Baseline eTariff Filing: Application for Market Based Rate to be effective 12/20/2018.

Filed Date: 12/19/18.

Accession Number: 20181219-5152.

Comments Due: 5 p.m. ET 1/9/19.

Docket Numbers: ER19-611-000.

Applicants: Lockhart Power Company.

Description: Compliance filing: Compliance Filing to November 27, 2018 Order to be effective 2/18/2019.

Filed Date: 12/19/18.

Accession Number: 20181219-5191.

Comments Due: 5 p.m. ET 1/9/19.

Docket Numbers: ER19-612-000.

Applicants: NorthWestern Corporation.

Description: § 205(d) Rate Filing: SA 290 10th Rev—NITSA with GCC Three Forks, LLC to be effective 3/1/2019.

Filed Date: 12/20/18.

Accession Number: 20181220-5000.

Comments Due: 5 p.m. ET 1/10/19.

Docket Numbers: ER19-613-000.

Applicants: NorthWestern Corporation.

Description: § 205(d) Rate Filing: SA 305 13th Rev—NITSA with Stillwater Mining Company to be effective 3/1/2019.

Filed Date: 12/20/18.

Accession Number: 20181220-5001.

Comments Due: 5 p.m. ET 1/10/19.

Docket Numbers: ER19-614-000.

Applicants: ISO New England Inc., New England Power Pool Participants Committee.

Description: § 205(d) Rate Filing: ISO-NE and NEPOOL; Price Response Demand Implementation Revisions to be effective 2/19/2019.

Filed Date: 12/20/18.

Accession Number: 20181220-5060.

Comments Due: 5 p.m. ET 1/10/19.

Docket Numbers: ER19-615-000.

Applicants: Midcontinent Independent System Operator, Inc.

Description: § 205(d) Rate Filing: 2018-12-20_SA 3014 Woodstock Hills-NSP 1st Revised GIA (J558) to be effective 12/11/2018.

Filed Date: 12/20/18.

Accession Number: 20181220-5073.

Comments Due: 5 p.m. ET 1/10/19.

Docket Numbers: ER19-616-000.

Applicants: Community Wind North 1 LLC.

Description: § 205(d) Rate Filing: Category 1 Seller Status Notification & Revised MBR Tariff to be effective 12/21/2018.

Filed Date: 12/20/18.

Accession Number: 20181220-5074.

Comments Due: 5 p.m. ET 1/10/19.

Docket Numbers: ER19-618-000.

Applicants: Midcontinent Independent System Operator, Inc.

Description: § 205(d) Rate Filing: 2018-12-20_SA 3223 Richland Wind Energy-MidAmerican GIA (J535) to be effective 12/11/2018.

Filed Date: 12/20/18.

Accession Number: 20181220-5076.

Comments Due: 5 p.m. ET 1/10/19.

Docket Numbers: ER19-619-000.

Applicants: Community Wind North 2 LLC.

Description: § 205(d) Rate Filing: Category 1 Seller Status Notification & Revised MBR Tariff to be effective 12/21/2018.

Filed Date: 12/20/18.

Accession Number: 20181220-5099.

Comments Due: 5 p.m. ET 1/10/19.

Docket Numbers: ER19-620-000.

Applicants: Community Wind North 3 LLC.

Description: § 205(d) Rate Filing: Category 1 Seller Status Notification & Revised MBR Tariff to be effective 12/21/2018.

Filed Date: 12/20/18.

Accession Number: 20181220-5105.

Comments Due: 5 p.m. ET 1/10/19.

Docket Numbers: ER19-621-000.

Applicants: Community Wind North 5 LLC.

Description: § 205(d) Rate Filing: Category 1 Seller Status Notification & Revised MBR Tariff to be effective 12/21/2018.

Filed Date: 12/20/18.

Accession Number: 20181220-5107.

Comments Due: 5 p.m. ET 1/10/19.

Docket Numbers: ER19-622-000.

Applicants: Community Wind North 6 LLC.

Description: § 205(d) Rate Filing: Category 1 Seller Status Notification & Revised MBR Tariff to be effective 12/21/2018.

Filed Date: 12/20/18.

Accession Number: 20181220-5108.

Comments Due: 5 p.m. ET 1/10/19.

Docket Numbers: ER19-623-000.

Applicants: NorthWestern Corporation.

Description: § 205(d) Rate Filing: SA 299 6th Rev—NITSA with REC Advanced Silicon Materials, LLC to be effective 3/1/2019.

Filed Date: 12/20/18.

Accession Number: 20181220-5109.

Comments Due: 5 p.m. ET 1/10/19.

Docket Numbers: ER19-624-000.

Applicants: NorthWestern Corporation.

Description: § 205(d) Rate Filing: SA 243 15th Rev—NITSA with CHS Inc. to be effective 3/1/2019.

Filed Date: 12/20/18.

Accession Number: 20181220-5110.

Comments Due: 5 p.m. ET 1/10/19.

Docket Numbers: ER19-625-000.

Applicants: Community Wind North 7 LLC.

Description: § 205(d) Rate Filing: Category 1 Seller Status Notification & Revised MBR Tariff to be effective 12/21/2018.

Filed Date: 12/20/18.

Accession Number: 20181220-5112.

Comments Due: 5 p.m. ET 1/10/19.

Docket Numbers: ER19-626-000.

Applicants: Community Wind North 8 LLC.

Description: § 205(d) Rate Filing: Category 1 Seller Status Notification & Revised MBR Tariff to be effective 12/21/2018.

Filed Date: 12/20/18.

Accession Number: 20181220-5121.

Comments Due: 5 p.m. ET 1/10/19.

Take notice that the Commission received the following electric securities filings:

Docket Numbers: ES19-6-000.

Applicants: Mid-Atlantic Interstate Transmission, LLC.

Description: Application for Extension of Authorization under Section 204 of the Federal Power Act to Issue Securities of Mid-Atlantic Interstate Transmission, LLC.

Filed Date: 12/18/18.

Accession Number: 20181218-5467.

Comments Due: 5 p.m. ET 1/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2018.
Nathaniel J. Davis, Sr.,
Deputy Secretary.

[FR Doc. 2018-28254 Filed 12-27-18; 8:45 am]

BILLING CODE 6717-01-P